DEPARTMENT OF HOUSING AND URBAN DEVELOPMENT

[Docket No. FR-7104-N-04]

60-Day Notice of Proposed Information Collection: Public Housing Agency Executive Compensation Information; OMB Control No.: 2577-0272

AGENCY: Office of the Assistant Secretary for Public and Indian Housing (PIH), Housing and Urban Development (HUD).

ACTION: Notice.

SUMMARY: HUD is seeking approval from the Office of Management and Budget (OMB) for the information collection described below. In accordance with the Paperwork Reduction Act (PRA), HUD is requesting comments from all interested parties on the proposed collection of information. The purpose of this notice is to allow for 60 days of public comment.

DATES: Comments Due Date: July 14, 2025.

ADDRESSES: Interested persons are invited to submit comments regarding this proposal. Written comments and recommendations for the proposed information collection can be sent within 60 days of publication of this notice to www.regulations.gov by searching the Docket Number of this notice and following the prompts. Interested persons are also invited to submit comments and recommendations via post. Comments and recommendations should be postmarked within 60 days of the publication of this notice, refer to the proposal by name and/or OMB Approval Number (located at the top of this notice), and be sent to: Eva Fulton, Department of Housing and Urban Development, 451 7th Street SW, Washington, DC 20410-5000.

FOR FURTHER INFORMATION CONTACT: Eva Fulton, Department of Housing and Urban Development, 451 7th Street SW, Washington, DC 20410; email Eva Fulton at Eva.L.Fulton@hud.gov, telephone (202) 402-5847. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Fulton.

SUPPLEMENTARY INFORMATION: This notice informs the public that HUD is seeking approval from OMB for the information collection described in Section A.

A. Overview of Information Collection

Title of Information Collection: Public Housing Agency Executive Compensation Information.

OMB Approval Number: 2577-0272.

Type of Request: Revision of a currently approved collection.

Form Number: Form HUD-52725.

Description of the need for the information and proposed use: Pursuant to the annually issued notice, most recently PIH Notice 2023-05, HUD collects information from all Public Housing Agencies (PHAs) that administer a public housing or tenant-based rental assistance program on the compensation paid to its employees. More specifically, under this information collection process PHAs are required to report the compensation paid to the top management official, the top financial official, and all employees who are paid an annual salary over the compensation cap imposed by Congress in HUD's annual appropriations (Level IV of the Executive Schedule). This reporting is similar to the information that non-profit organizations receiving federal tax exemptions are required to report to the IRS annually. Since PHAs receive significant direct federal funds, HUD has been collecting compensation information to enhance regulatory oversight by HUD, as well as by state and local authorities. HUD intends to collect one year of the compensation information once every three years and provides the collected information to the public. The compensation data collected includes base salary, bonus, and incentive and other compensation, and the extent to which these payments are made with any Sections 8 and 9 appropriated funds.

Respondents: Public Housing Agencies.

Information collection | Number of respondents | * Frequency of responses | Responses per annum | Burden hours per response | Annual burden hours | Hourly cost per response | Annual cost
HUD-52725 | 4,000 | 1 | 4,000 | 1 | 4,000 | $38.76 | $155,040
Totals: 4,000; Total Responses: 4,000; Total Hours: 4,000.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 2 of the Paperwork Reduction Act of 1995, 44 U.S.C. 3507.

Laura Kunkel,
Acting Director, Office of Policy, Programs, and Legislative Initiatives.

[FR Doc. 2025-08351 Filed 5-12-25; 8:45 am]

BILLING CODE 4210-67-P